DEPARTMENT OF DEFENSE

Department of the Army; Corps of Engineers

Missouri River Recovery Implementation Committee; Meeting

AGENCY: Department of the Army, U.S. Army Corps of Engineers, DoD.

ACTION: Notice of meeting.

SUMMARY: In accordance with Section 5018(b) of the Water Resources Act of 2007, announcement is made of the following committee meeting:

Name of Committee: Missouri River Recovery Implementation Committee.

Date: December 16-18, 2008.

Time: 8 a.m.-7 p.m. (December 16, 2008).

8 a.m.-7 p.m. (December 17, 2008).

7 a.m.-1 p.m. (December 18, 2008).

Place: Doubletree Hotel Downtown, Omaha, NE 68102.

FOR FURTHER INFORMATION CONTACT: Mary Roth, U.S. Army Corps of Engineers, Northwestern Division, 1616 Capitol Avenue, Suite 365, Omaha, NE 68102-4909.

SUPPLEMENTARY INFORMATION: This will be the second meeting of the Missouri River Recovery Implementation Committee (Committee). Members of the public may attend the meeting in person. Seating is limited and is available on a first-come, first-served basis. Participation by the public is scheduled for 6 p.m.-6:30 p.m. on December 16th and 17th and 12 p.m.-12:30 p.m. on December 18th.

Proposed Agenda: The goals of the meeting are to: take steps on selecting a Committee Chair and Vice-Chair; take steps on selecting a Third Party facilitation team and notetaker; provide an update on the Missouri River Ecosystem Restoration Plan and determine how the MRRIC fits into the process; gather information on the Missouri River Recovery Program, the Corps' Work Plan Process, and learn about opportunities for the MRRIC to have input on the 2010 and 2011 Work Plans; learn about the Corps' Integrated Science Program, especially as it relates to the Pallid Sturgeon; learn about the Biological Opinion, the Endangered Species Act, and recovery goals; hear workgroup updates; and establish a date, location, and draft agenda for the next MRRIC meeting.

Members of the public may make oral comments at the meeting or submit written comments. In general, each individual or group making an oral presentation will be limited to five minutes, and total oral comments will be limited to one-half hour each day. Written comments received far enough in advance of the meeting may be provided to the Committee prior to the meeting; comments received too near the meeting date to allow for distribution will be provided to the Committee at the meeting. Comments submitted during or after the meeting will be accepted but may not be provided to the Committee until after the meeting.

Any member of the public who desires further information concerning the meeting or wishes to submit oral or written comments should contact Mary Roth at the address shown in (see ADDRESSES). Requests to make oral comments must be in writing (or by e-mail to mary.s.roth@usace.army.mil) and received by Ms. Roth no later than 5 p.m. Central Daylight Time on December 12, 2008.

Dated: November 12, 2008.
Lawrence J. Cieslik,
Deputy Director, Programs—Missouri River, Chief, Missouri River Basin Water Management, Northwestern Division, U.S. Army Corps of Engineers.

[FR Doc. E8-27432 Filed 11-18-08; 8:45 am]

BILLING CODE 3710-58-P